DEPARTMENT OF THE INTERIOR

Bureau of Indian Affairs

Office of the Special Trustee for American Indians

Office of Trust Transition

Office of the Secretary; Tribal Consultation of Indian Trust Asset Management

AGENCY: Office of the Secretary, Bureau of Indian Affairs, Office of the Special Trustee for American Indians, Office of Trust Transition, Interior.

ACTION: Notice of tribal consultation meetings; reopening of comment period.

SUMMARY: The Office of the Secretary, the Bureau of Indian Affairs, the Office of the Special Trustee for American Indians, and the Office of Indian Trust Transition have been conducting consultation meetings with the public as noticed in the Federal Register publications of December 5, 2001, December 11, 2001, and January 31, 2002. In the Federal Register notice of December 5, 2001 (66 FR 234), the Department noted that all written comments must be received by February 15, 2002. In a subsequent Federal Register notice (67 FR 28), the Department extended this comment period to February 28, 2002. This notice reopens the comment period to April 30, 2002.

DATES: All written comments must be received by April 30, 2002.

ADDRESSES: Office of the Assistant Secretary—Indian Affairs, 1849 C Street, NW., MS 4040 MIB, Washington, DC 20240.

FOR FURTHER INFORMATION CONTACT: Wayne R. Smith, Deputy Assistant Secretary—Indian Affairs, 1849 C Street, NW., MS 4140 MIB, Washington, DC 20240 (202/208-7163).

SUPPLEMENTARY INFORMATION: The purpose of the consultation meetings was to involve affected and interested parties in the process of organizing the Department's trust asset management responsibility functions. The Department has determined that there is a need for dramatic change in the management of Indian trust assets. An independent consultant has analyzed important components of the Department's trust reform activities and made several recommendations, including the recommendation that the Department consolidate trust functions under a single entity. The Department has held eight (8) consultation meetings across the country to discuss the merits of this reorganization. Because of the overwhelming public response to this effort, the Department believes it prudent to reopen the comment period further to April 30, 2002. This reopening of the comment period will facilitate the maximum direct participation of all interested parties in this important Departmental process.

Dated: March 1, 2002.
J. Steven Griles,
Deputy Secretary.

[FR Doc. 02-5383 Filed 3-6-02; 8:45 am]

BILLING CODE 4310-02-M